DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2013 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Terence L. Cook, Director, Human Resources, Justice Management Division, Department of Justice, Washington, DC 20530; (202) 514-4350.

Lee J. Lofthus,
Assistant Attorney General, for Administration.

Name | Position title
Office of the Attorney General—OAG
RICHARDSON, MARGARET | CHIEF OF STAFF AND COUNSELOR.
MORAN, MOLLY | COUNSELOR TO THE ATTORNEY GENERAL.
PHILLIPS, CHANNING | COUNSELOR TO THE ATTORNEY GENERAL.
THOMPSON, KARL | COUNSELOR TO THE ATTORNEY GENERAL.
MOSIER, JENNY | COUNSELOR TO THE ATTORNEY GENERAL.
WERNER, SHARON | WHITE HOUSE LIAISON AND COUNSEL.
Office of the Deputy Attorney General—ODAG
GOLDBERG, STUART | PRINCIPAL ASSOCIATE DEPUTY ATTORNEY GENERAL.
MARGOLIS, DAVID | ASSOCIATE DEPUTY ATTORNEY GENERAL.
BURROWS, CHARLOTTE | ASSOCIATE DEPUTY ATTORNEY GENERAL.
JACOBSOHN, ROBIN | ASSOCIATE DEPUTY ATTORNEY GENERAL.
OHLSON, KEVIN A | CHIEF, PROFESSIONAL MISCONDUCT REVIEW UNIT.
GOLDSMITH, ANDREW | NATIONAL CRIMINAL DISCOVERY COORDINATOR.
Office of the Associate Attorney General—OASG
TAYLOR, ELIZABETH GORDON | PRINCIPAL DEPUTY ASSOCIATE ATTORNEY GENERAL.
HIRSCH, SAMUEL | DEPUTY ASSOCIATE ATTORNEY GENERAL.
MCEVOY, JULIA | DEPUTY ASSOCIATE ATTORNEY GENERAL.
Office of the Solicitor General—OSG
DREEBEN, MICHAEL R | DEPUTY SOLICITOR GENERAL.
KNEEDLER, EDWIN S | DEPUTY SOLICITOR GENERAL.
STEWART, MALCOLM L | DEPUTY SOLICITOR GENERAL.
Antitrust Division—ATR
HESSE, RENATA | PRINCIPAL DEPUTY ASSISTANT ATTORNEY GENERAL.
HAMMOND, SCOTT D | DEPUTY ASSISTANT ATTORNEY GENERAL.
OVERTON, LESLIE | DEPUTY ASSISTANT ATTORNEY GENERAL.
NEVO, AVIV | DEPUTY ASSISTANT ATTORNEY GENERAL.
O'SULLIVAN, CATHERINE G | CHIEF, APPELLATE SECTION.
POTTER, ROBERT A | CHIEF, LEGAL POLICY SECTION.
ARMINGTON, ELIZABETH J | CHIEF, ECONOMIC REGULATORY SECTION.
BRINK, PATRICIA A | ATTORNEY ADVISOR.
CURRIE, DUNCAN S | SENIOR COUNSEL FOR CRIMINAL ENFORCEMENT, SAN FRANCISCO.
DAVIS, NEZIDA S | SENIOR COUNSEL FOR CRIMINAL ENFORCEMENT, WASHINGTON, DC.
FAMILANT, NORMAN | CHIEF, ECONOMIC LITIGATION SECTION.
HAND, EDWARD T | CHIEF, FOREIGN COMMERCE SECTION.
KING, THOMAS D | EXECUTIVE OFFICER.
KRAMER II, J ROBERT | DIRECTOR OF OPERATIONS.
MAJURE, WILLIAM ROBERT | DIRECTOR OF ECONOMICS.
MCEVOY, DEIRDRE A | CHIEF, NEW YORK FIELD OFFICE.
PETRIZZI, MARIBETH | CHIEF, LITIGATION II SECTION.
PHELAN, LISA M | CHIEF, NATIONAL CRIMINAL ENFORCEMENT SECTION.
PRICE JR, MARVIN N | CHIEF, CHICAGO FIELD OFFICE.
READ, JOHN R | CHIEF, LITIGATION III SECTION.
SIEGEL, MARC | DIRECTOR OF CRIMINAL ENFORCEMENT.
TIERNEY, JAMES J | CHIEF, NETWORKS AND TECHNOLOGY ENFORCEMENT SECTION.
MCSWEENY, TERRELL | SENIOR COUNSEL, COMPETITION POLICY.
WARREN, PHILLIP H | CHIEF, SAN FRANCISCO FIELD OFFICE.
WATSON, SCOTT M | SENIOR COUNSEL FOR CRIMINAL ENFORCEMENT, CHICAGO.
WERDEN, GREGORY J | ECONOMIST ADVISOR.
RYAN, MARK | DIRECTOR OF LITIGATION.
Bureau of Alcohol, Tobacco, Firearms, and Explosives—ATF
BRANDON, THOMAS E | DEPUTY DIRECTOR.
TURK, RONALD B | ASSISTANT DIRECTOR, FIELD OPERATIONS.
GLEYSTEEN, MICHAEL P | ASSISTANT DIRECTOR, OFFICE OF PROFESSIONAL RESPONSIBILITY AND SECURITY OPERATIONS.
BOXLER, MICHAEL | DEPUTY DIRECTOR, TEDAC.
HERBERT, ARTHUR W | ASSISTANT DIRECTOR, ENFORCEMENT PROGRAM AND SERVICES.
CZARNOPYS, GREGORY P | DEPUTY ASSISTANT DIRECTOR, FORENSIC SERVICES.
GILBERT, CURTIS | DEPUTY ASSISTANT DIRECTOR, INDUSTRY OPERATIONS.
HOLGATE, HENRY R | ASSISTANT DIRECTOR, SCIENCE AND TECHNOLOGY/CIO.
MCDERMOND, JAMES E | ASSISTANT DIRECTOR, OFFICE OF STRATEGIC INTELLIGENCE AND INFORMATION.
MARIANOS, RICHARD | ASSISTANT DIRECTOR, OFFICE OF PUBLIC AND GOVERNMENTAL AFFAIRS.
LENNON, GEORGE D | DEPUTY ASSISTANT DIRECTOR, OFFICE OF PUBLIC AND GOVERNMENTAL AFFAIRS.
MICHALIC, VIVIAN B | DEPUTY ASSISTANT DIRECTOR, MANAGEMENT.
POTTER, MARK W | ASSISTANT DIRECTOR, MANAGEMENT AND CHIEF FINANCIAL OFFICER.
ZAPOR, BERNARD J | DEPUTY ASSISTANT DIRECTOR, FIELD OPERATIONS-CENTRAL.
ANDERSON, GLENN N | DEPUTY ASSISTANT DIRECTOR, FIELD OPERATIONS-EAST.
MCCAIN, DAVID | DEPUTY ASSISTANT DIRECTOR, HUMAN RESOURCES AND PROFESSIONAL DEVELOPMENT.
SMITH, CHARLES | CHIEF, SPECIAL OPERATIONS DIVISION.
GROSS, CHARLES R | CHIEF COUNSEL.
SERRES, GREGORY | DEPUTY CHIEF COUNSEL-FIELD.
RICHARDSON, MARVIN G | DEPUTY ASSISTANT DIRECTOR, ENFOREMENT PROGRAM AND SERVICES.
STOOP, THERESA R | ASSISTANT DIRECTOR, HUMAN RESOURCES AND PROFESSIONAL DEVELOPMENT.
GOLD, VICTORIA | DEPUTY ASSISTANT DIRECTOR, IT/CIO.
THOMAS, GUY N | EXECUTIVE ASSISTANT TO THE DIRECTOR.
SHAEFER, CHRISTOPHER | SPECIAL AGENT IN CHARGE, ATLANTA.
GERIDO, STEVE | SPECIAL AGENT IN CHARGE, BALTIMORE.
DIXIE, WAYNE | SPECIAL AGENT IN CHARGE, CHARLOTTE.
FORD, WILFRED L | SPECIAL AGENT IN CHARGE, CHICAGO.
SHOEMAKER, STEPHANIE | SPECIAL AGENT IN CHARGE, COLUMBUS.
CHAMPION, ROBERT R | SPECIAL AGENT IN CHARGE, DALLAS.
TRAVER, ANDREW L | SPECIAL AGENT IN CHARGE, DENVER.
KING, MELVIN | SPECIAL AGENT IN CHARGE, HOUSTON.
VIDOLI, MARINO | SPECIAL AGENT IN CHARGE, KANSAS CITY.
BOGDALEK, STEVEN | SPECIAL AGENT IN CHARGE, LOS ANGELES.
LOWREY, STUART | SPECIAL AGENT IN CHARGE, LOUISVILLE.
BARRERA, HUGO J | SPECIAL AGENT IN CHARGE, MIAMI.
FULTON, JEFFREY | SPECIAL AGENT IN CHARGE, NASHVILLE.
DURHAM, PHILLIP M | SPECIAL AGENT IN CHARGE, NEW ORLEANS.
ANARUMO, JOSEPH | SPECIAL AGENT IN CHARGE, NEW YORK.
CANNON, THOMAS | SPECIAL AGENT IN CHARGE, NEWARK.
RABADI, ESSAM | SPECIAL AGENT IN CHARGE, PHILADELPHIA.
ATTEBERRY, THOMAS | SPECIAL AGENT IN CHARGE, PHOENIX.
RIEHL, JOSEPH M | SPECIAL AGENT IN CHARGE, SAN FRANCISCO.
SWEETOW, SCOTT | SPECIAL AGENT IN CHARGE, ST PAUL.
TORRES, JULIE | SPECIAL AGENT IN CHARGE, TAMPA.
VASILKO, CARL J | SPECIAL AGENT IN CHARGE, WASHINGTON DC.
Bureau of Prisons—BOP
SAMUELS JR., CHARLES E | DIRECTOR.
KANE, THOMAS R | DEPUTY DIRECTOR.
DALIUS JR., WILLIAM F | ASSISTANT DIRECTOR, ADMINISTRATION DIVISION.
JOSLIN, DANIEL | ASSISTANT DIRECTOR, HUMAN RESOURCES MANAGEMENT DIVISION.
MITCHELL, MARY M | ASSISTANT DIRECTOR, INDUSTRIES, EDUCATION AND VOCATIONAL TRAINING DIVISION.
SIBAL, PHILIP | SENIOR DEPUTY ASSISTANT DIRECTOR, INDUSTRIES, EDUCATION AND VOCATIONAL TRAINING DIVISION.
GROSS, BRADLEY T | SENIOR DEPUTY ASSISTANT DIRECTOR, ADMINISTRATION DIVISION.
GARRETT, JUDITH | ASSISTANT DIRECTOR, INFORMATION, POLICY AND PUBLIC AFFAIRS DIVISION.
THOMPSON, SONYA | SENIOR DEPUTY ASSISTANT DIRECTOR, INFORMATION, POLICY AND PUBLIC AFFAIRS DIVISION.
HOLLEMBAEK, STEPHANIE | SENIOR DEPUTY ASSISTANT DIRECTOR, HEALTH SERVICES DIVISION.
HYLE, KENNETH | SENIOR DEPUTY GENERAL COUNSEL, OGC.
KENNEY, KATHLEEN M | ASSISTANT DIRECTOR, OFFICE OF GENERAL COUNSEL.
KENDALL, PAUL F | SENIOR COUNSEL, OGC.
DAVIS, BLAKE | ASSISTANT DIRECTOR, CORRECTIONAL PROGRAMS DIVISION.
HICKEY, DEBORAH | SENIOR DEPUTY ASSISTANT DIRECTOR, CORRECTIONAL PROGRAMS DIVISION.
GRIFFITH, CRISTINA L | SENIOR DEPUTY ASSISTANT DIRECTOR, HUMAN RESOURCES MANAGEMENT DIVISION.
TRACY, KATHRYN | SENIOR DEPUTY ASSISTANT DIRECTOR, CORRECTIONAL PROGRAMS DIVISION.
ATWOOD, MICHAEL A | SENIOR DEPUTY ASSISTANT DIRECTOR, ADMINISTRATION DIVISION.
EICHENLAUB, LOUIS C | REGIONAL DIRECTOR, MIDDLE ATLANTIC REGION.
QUINTANA, FRANCISCO J | WARDEN, FMC, LEXINGTON, KY.
EDENFIELD, KAREN | WARDEN, FCI, MANCHESTER, KY.
HOLLAND, JAMES C | WARDEN, USP, MCCREARY, KY.
FARLEY, ROBERT L | WARDEN, USP, BIG SANDY, KY.
STEWART, TIMOTHY S | WARDEN, FCI, CUMBERLAND, MD.
APKER JR., LIONEL C | COMPLEX WARDEN-FMC, FCC, BUTNER, NC.
REVELL, SARA M | ASSISTANT DIRECTOR, PROGRAM REVIEW DIVISION.
STEPHENS, DELORES | WARDEN, FCI, MEMPHIS, TN.
ZYCH, CHRISTOPHER | WARDEN, USP, LEE COUNTY, VA.
WILSON, ERIC D | COMPLEX WARDEN, FCC, PETERSBURG, VA.
ZIEGLER, JOEL | WARDEN, FCI, BECKLEY, WV.
O'BRIEN, TERENCE T | WARDEN, USP, HAZELTON, WV.
PERDUE, RUSSELL A | WARDEN, FCI, GILMER, WV.
LAIRD, PAUL A | REGIONAL DIRECTOR, NORTH CENTRAL REGION.
DANIELS, CHARLES A | WARDEN-USP, FCC, FLORENCE, CO.
BERKEBILE, DAVID | COMPLEX WARDEN, FCC, FLORENCE, CO.
CROSS JR., JAMES | WARDEN, FCI, GREENVILLE, IL.
WALTON, JEFFEREY S | WARDEN, USP, MARION, IL.
RIOS, RICARDO | WARDEN, FCI, PEKIN, IL.
CARAWAY, JOHN | COMPLEX WARDEN-USP, FCC, TERRE HAUTE, IN.
MAYE, CLAUDE | WARDEN, USP, LEAVENWORTH, KS.
JETT, BRIAN R | WARDEN, FMC, ROCHESTER, MN.
SANDERS, LINDA L | WARDEN, USMCFP, SPRINGFIELD, MO.
WERLINGER, ROBERT | WARDEN FCI, OXFORD, WI.
NORWOOD, JOSEPH L | REGIONAL DIRECTOR, NORTHEAST REGION.
GRONDOLSKY, JEFF F | WARDEN, FMC, DEVENS, MA.
SCHULT, DEBORAH G | WARDEN, FCI, BERLIN, NH.
SHARTLE, JOHN T | WARDEN, FCI, FAIRTON, NJ.
HOLLINGSWORTH, JORDAN | WARDEN, FCI, FORT DIX, NJ.
STRADA, FRANK | WARDEN, MDC, BROOKLYN, NY.
LINAWEAVER, CATHERINE L | WARDEN, MCC, NEW YORK, NY.
HUFFORD, HOWARD L | WARDEN, FCI, OTISVILLE, NY.
ZICKEFOOSE, DONNA R | WARDEN, FCC, ALLENWOOD, PA.
EBBERT, DAVID | WARDEN, USP, CANAAN, PA.
THOMAS, JEFFREY E | WARDEN, USPI, LEWISBURG, PA.
MEEKS, BOBBY | WARDEN, FCI, MCKEAN, PA.
KRUEGER, JEFFREY E | WARDEN, FCI, SCHUYLKILL, PA.
KELLER, JEFFREY A | REGIONAL DIRECTOR, SOUTH CENTRAL REGION.
HAYNES, ANTHONY | COMPLEX WARDEN, FCC, FOREST CITY, AR.
MAIORANA, CHARLES M | COMPLEX WARDEN, FCC, OAKDALE, LA.
CARVAJAL, MICHAEL D | COMPLEX WARDEN, FCC, POLLUCK, LA.
KASTNER, PAUL A | WARDEN, FTC, OKLAHOMA CITY, OK.
FOX, JOHN B | COMPLEX WARDEN-USP2, FCC, BEAUMONT, TX.
UPTON, JODY R | WARDEN, FMC, CARSWELL, TX.
ROY, KEITH | WARDEN, FCI, THREE RIVERS, TX.
MARBERRY, HELEN J | REGIONAL DIRECTOR, SOUTHEAST REGION.
RATHMAN, JOHN T | WARDEN, FCI, TALLADEGA, AL.
JARVIS, TAMYRA | COMPLEX WARDEN-USP2, FCC, COLEMAN, FL.
LOCKETT, CHARLES L | WARDEN-USP, COLEMAN 1, COLEMAN, FL.
ENGLISH, NICOLE | WARDEN, FCI, MARIANNA, FL.
TAYLOR, WILLIAM | WARDEN, FDC, MIAMI, FL.
DREW, DARLENE | WARDEN, USP, ATLANTA, GA.
HASTINGS, SUZANNE R | WARDEN, FCI, JESUP, GA.
MARTIN, MARK S | COMPLEX WARDEN, FCC, YAZOO CITY, MS.
BRAGG, M. TRAVIS | WARDEN, FCI, BENNETTSVILLE, SC.
ATKINSON, KENNETH R | WARDEN, FCI, EDGEFIELD, SC.
MORA, STEVE B | WARDEN, FCI, ESTILL, SC.
CRUZ, MAUREEN S | WARDEN, FCI, WILLIAMSBURG, SC.
CASTILLO, JUAN D | REGIONAL DIRECTOR, WESTERN REGION.
GRABER, CONRAD M | WARDEN, FCI, PHOENIX, AZ.
WINN JR., LOUIS W | COMPLEX WARDEN-USP, FCC, TUSCON, AZ.
COPENHAVER, PAUL J | WARDEN, USP, ATWATER, CA.
BABCOCK, MIKE H | WARDEN, FCI, HERLONG, CA.
GILL, AUDREY M | WARDEN, FCI, MENDOTA CA.
IVES, RICHARD B | COMPLEX WARDEN, FCC, LOMPOC, CA.
THOMAS, LINDA | WARDEN, MDC, LOS ANGELES, CA.
MCGREW, LINDA T | COMPLEX WARDEN, FCC, VICTORVILLE, CA.
FEATHER, MARION M | WARDEN, FCI, SHERIDAN, OR.
Civil Division—CIV
BRINKMANN, BETH S | DEPUTY ASSISTANT ATTORNEY GENERAL.
GERSHENGORN, IAN H | DEPUTY ASSISTANT ATTORNEY GENERAL.
FRIMPONG, MAAME | DEPUTY ASSISTANT ATTORNEY GENERAL.
HAUCK, BRIAN | DEPUTY ASSISTANT ATTORNEY GENERAL.
OLIN, JONATHAN | COUNSELOR AND CHIEF OF STAFF.
ANDERSON, DANIEL R | DEPUTY DIRECTOR, COMMERCIAL LITIGATION BRANCH.
ZWICK, KENNETH L | DIRECTOR, OFFICE OF MANAGEMENT PROGRAMS.
BAXTER, FELIX V | BRANCH DIRECTOR.
BRANDA, JOYCE R | DEPUTY ASSISTANT ATTORNEY GENERAL.
COPPOLINO, ANTHONY J | SPECIAL LITIGATION COUNSEL.
DAVIDSON, JEANNE E | DIRECTOR, COMMERCIAL LITIGATION BRANCH.
SNEE, BRYANT G | DEPUTY DIRECTOR, COMMERCIAL LITIGATION BRANCH.
FARGO, JOHN J | DIRECTOR, COMMERCIAL LITIGATION BRANCH.
FROST, PETER F | DIRECTOR, AVIATION AND ADMIRALTY SECTION.
BHATTACHARYA, RUPA | DIRECTOR, CONSTITUTIONAL AND SPECIALIZED TORT LITIGATION SECTION.
GLYNN, JOHN PATRICK | DIRECTOR, ENVIRONMENTAL TORT LITIGATION SECTION.
GRANSTON, MICHAEL D | DIRECTOR, COMMERCIAL LITIGATION BRANCH.
HAUSKEN, GARY L | SENIOR PATENT ATTORNEY.
HOLLIS, ROBERT MARK | DIRECTOR, COMMERCIAL LITIGATION BRANCH.
HUGHES, TODD M | DEPUTY DIRECTOR, COMMERCIAL LITIGATION BRANCH.
HUNT, JOSEPH H | BRANCH DIRECTOR.
SHAPIRO, ELIZABETH J | DEPUTY BRANCH DIRECTOR.
GILLIGAN, JAMES | SPECIAL LITIGATION COUNSEL.
HUSSEY, THOMAS W | SPECIAL IMMIGRATION COUNSEL.
COLLETTE, MATTHEW | DEPUTY DIRECTOR, APPELLATE STAFF.
KIRSCHMAN JR., ROBERT E | DEPUTY DIRECTOR, COMMERCIAL LITIGATION BRANCH.
KLINE, DAVID J | DIRECTOR, OFFICE OF IMMIGRATION LITIGATION, DISTRICT COURT.
KOHN, J. CHRISTOPHER | DIRECTOR, COMMERCIAL LITIGATION BRANCH.
LETTER, DOUGLAS | DIRECTOR, APPELLATE STAFF.
STERN, MARK B | APPELLATE LITIGATION COUNSEL.
BIDDLE, BARBARA | DEPUTY DIRECTOR, APPELLATE BRANCH.
LIEBER, SHEILA M | DEPUTY BRANCH DIRECTOR.
MCCONNELL, DAVID M | DIRECTOR, OFFICE OF IMMIGRATION LITIGATION, APPELLATE SECTION.
MCINTOSH, SCOTT R | SENIOR LEVEL APELLATE COUNSEL.
O'MALLEY, BARBARA B | SPECIAL LITIGATION COUNSEL, AVIATION AND ADMIRALTY SECTION.
TOUHEY, JAMES G | DIRECTOR, FEDERAL TORT CLAIMS ACT SECTION.
RICKETTS, JENNIFER D | BRANCH DIRECTOR.
RUDY, SUSAN K | SENIOR TRIAL ATTORNEY.
STEMPLEWICZ, JOHN | SENIOR TRIAL ATTORNEY.
BLUME, MICHAEL | DIRECTOR, CONSUMER PROTECTION BRANCH.
KISOR, COLIN | SENIOR TRIAL ATTORNEY, OFFICE OF IMMIGRATION LITIGATION.
LATOUR, MICHELLE | DEPUTY DIRECTOR, OFFICE OF IMMIGRATION LITIGATION, APPELLATE SECTION.
RAAB, MICHAEL | APPELLATE LITIGATION COUNSEL.
FURMAN, JILL P | SENIOR TRIAL ATTORNEY, CONSUMER PROTECTION BRANCH.
MATANOSKI, VINCENT | SENIOR TRIAL ATTORNEY, CONSTITUTIONAL SECTION.
Civil Rights Division—CRT
SAMUELS, JOCELYN | PRINCIPAL DEPUTY ASSISTANT ATTORNEY GENERAL.
AUSTIN, ROY | DEPUTY ASSISTANT ATTORNEY GENERAL.
FRIEL, GREGORY | DEPUTY ASSISTANT ATTORNEY GENERAL.
HILL, EVE LYNNE | DEPUTY ASSISTANT ATTORNEY GENERAL.
GINSBURG, JESSICA A | COUNSEL TO THE ASSISTANT ATTORNEY GENERAL.
MCCONKEY, MILTON | EXECUTIVE OFFICER.
KENNEBREW, DELORA | CHIEF, EMPLOYMENT LITIGATION SECTION.
MOOSSY, ROBERT J | PRINCIPAL DEPUTY CHIEF, CRIMINAL SECTION.
KOWALSKI, BARRY F | SPECIAL LEGAL COUNSEL.
BHARGAVA, ANURIMA | CHIEF, EDUCATIONAL OPPORTUNITIES SECTION.
ROSENBAUM, STEVEN H | CHIEF, HOUSING AND CIVIL ENFORCEMENT SECTION.
JANG, DEEANA L | CHIEF, COORDINATION AND REVIEW SECTION.
HERREN JR., THOMAS C | CHIEF, VOTING SECTION.
WERTZ, REBECCA | PRINCIPAL DEPUTY CHIEF, VOTING SECTION.
FLYNN, DIANA KATHERINE | CHIEF, APPELLATE SECTION.
GROSS, MARK L | COMPLAINT ADJUDICATION OFFICER.
SILVER, JESSICA D | SENIOR APPELLATE COUNSEL.
FORAN, SHEILA | SPECIAL LEGAL COUNSEL, DISABILITY RIGHTS.
SMITH, JONATHAN M | CHIEF, SPECIAL LITIGATION SECTION.
BROWN-CUTLAR, SHANETTA Y | COUNSEL TO THE SPECIAL LITIGATION SECTION CHIEF.
NANDA, SEEMA | DEPUTY SPECIAL COUNSEL FOR IMMIGRATION-RELATED UNFAIR EMPLOYMENT PRACTICES.
Criminal Division—CRM
RAMAN, MYTHILI | PRINCIPAL DEPUTY ASSISTANT ATTORNEY GENERAL & CHIEF OF STAFF.
BLANCO, KENNETH A | DEPUTY ASSISTANT ATTORNEY GENERAL.
O'BRIEN, PAUL M | DEPUTY ASSISTANT ATTORNEY GENERAL.
SWARTZ, BRUCE CARLTON | DEPUTY ASSISTANT ATTORNEY GENERAL.
BURETTA, JOHN | DIRECTOR, DEEPWATER HORIZON TASK FORCE.
AINSWORTH, PETER J | SENIOR COUNSEL, OFFICE OF OVERSEAS PROSECUTORIAL DEVELOPMENT ASSISTANCE AND TRAINING.
RAMASWAMY, JAIKUMAR | CHIEF, ASSET FORFEITURE AND MONEY LAUNDERING SECTION.
CARROLL, OVIE | DIRECTOR, CYBERCRIME LABORATORY, COMPUTER CRIME AND INTELLECTUAL PROPERTY SECTION.
CARWILE, P. KEVIN | CHIEF, CAPITAL CASE UNIT.
LYNCH JR., JOHN T | CHIEF, COMPUTER CRIME, AND INTELLECTUAL PROPERTY SECTION.
DOWNING, RICHARD W | DEPUTY CHIEF, COMPUTER CRIME AND INTELLECTUAL PROPERTY SECTION.
FELTON, KATHLEEN A | DEPUTY CHIEF, APPELLATE SECTION.
HULSER, RAYMOND | DEPUTY CHIEF, PUBLIC INTEGRITY SECTION.
JONES, JOSEPH M | SENIOR COUNSEL FOR INTERNATIONAL DEVELOPMENT AND TRAINING.
KING, DAMON A | SENIOR LITIGATION COUNSEL, CHILD EXPLOITATION AND OBSCENITY SECTION.
KNOX, JEFFREY H | DEPUTY CHIEF FOR LITIGATION.
MASCHINO, KARL J | EXECUTIVE OFFICER.
MCHENRY, TERESA L | CHIEF, HUMAN RIGHTS AND SPECIAL PROSECUTIONS SECTION.
MCINERNEY, DENIS J | CHIEF, FRAUD SECTION.
OHR, BRUCE G | COUNSELOR FOR TRANSNATIONAL ORGANIZED CRIME AND INTERNATIONAL AFFAIRS.
OOSTERBAAN, ANDREW | CHIEF, CHILD EXPLOITATION AND OBSCENITY SECTION.
PAINTER, CHRISTOPHER M | SENIOR COUNSEL FOR CYBERCRIME.
POPE, AMY | COUNSELOR TO THE ASSISTANT ATTORNEY GENERAL.
RAABE, WAYNE C | DEPUTY CHIEF, NARCOTIC AND DANGEROUS DRUG SECTION.
DAY, M. KENDALL | DEPUTY CHIEF, ASSET FORFEITURE AND MONEY LAUNDERING SECTION.
ROBINSON, STEWART C | SENIOR JUSTICE FOR THE EUROPEAN UNION AND INTERNATIONAL CRIMINAL MATTERS.
RODRIGUEZ, MARY D | DEPUTY DIRECTOR, OFFICE OF INTERNATIONAL AFFAIRS.
ROSENBAUM, ELI M | DIRECTOR, HUMAN RIGHTS ENFORCEMENT STRATEGY AND POLICY.
SMITH, JOHN “JACK” L | CHIEF, PUBLIC INTEGRITY SECTION.
STEMLER, PATTY MERKAMP | CHIEF, APPELLATE SECTION.
TREVILLIAN IV, ROBERT C | DIRECTOR, INTERNATIONAL CRIMINAL INVESTIGATIVE TRAINING ASSISTANCE PROGRAM.
TRUSTY, JAMES | CHIEF, ORGANIZED CRIME AND GANG SECTION.
JAFFE, DAVID | DEPUTY CHIEF, ORGANIZED CRIME AND GANG SECTION.
ROTH, MONIQUE P | DIRECTOR, OFFICE OF ENFORCEMENT OPERATIONS.
WARLOW, MARY ELLEN | DIRECTOR, OFFICE OF INTERNATIONAL AFFAIRS.
WEBB, JANET D | DEPUTY DIRECTOR, OFFICE OF ENFORCEMENT OPERATIONS.
WROBLEWSKI, JONATHAN J | DIRECTOR, OFFICE OF POLICY AND LEGISLATION.
WYATT, ARTHUR G | CHIEF, NARCOTIC AND DANGEROUS DRUG SECTION.
WYDERKO, JOSEPH | SENIOR COUNSEL FOR APPEALS, APPELLATE SECTION.
Environmental and Natural Resources Division—ENRD
DREHER, ROBERT E | PRINCIPAL DEPUTY ASSISTANT ATTORNEY GENERAL.
SHENKMAN, ETHAN | DEPUTY ASSISTANT ATTORNEY GENERAL.
WILLIAMS, JEAN E | DEPUTY ASSISTANT ATTORNEY GENERAL (ENVIRONMENTAL CRIMES AND WILDLIFE AND MARINE RESOURCES SECTIONS).
SILVERMAN, STEVEN | DEPUTY ASSISTANT ATTORNEY GENERAL.
GELBER, BRUCE S | DEPUTY ASSISTANT ATTORNEY GENERAL.
ALEXANDER, S. CRAIG | CHIEF, INDIAN RESOURCES SECTION.
BARSKY, SETH | CHIEF, WILDLIFE AND MARINE RESOURCES.
CLARK II, TOM C | DEPUTY CHIEF, NATURAL RESOURCES SECTION.
COLLIER, ANDREW | EXECUTIVE OFFICER.
FERGUSON, CYNTHIA | SENIOR LITIGATOR, ENVIRONMENTAL JUSTICE.
FISHEROW, W. BENJAMIN | CHIEF, ENVIRONMENTAL ENFORCEMENT SECTION.
GELDERMANN, EDWARD S | SENIOR LITIGATOR, NATURAL COUNSEL, NATURAL RESOURCES SECTION.
GETTE, JAMES | DEPUTY CHIEF, NATURAL RESOURCES SECTION.
GOLDFRANK, ANDREW M | CHIEF, LAND ACQUISITION SECTION.
GRISHAW, LETITIA J | CHIEF, ENVIRONMENTAL DEFENSE SECTION.
HOANG, ANTHONY P | SENIOR LITIGATION COUNSEL, NATURAL RESOURCES.
KILBOURNE, JAMES C | CHIEF, APPELLATE SECTION.
MAHAN, ELLEN M | DEPUTY CHIEF, ENVIRONMENTAL ENFORCEMENT SECTION.
DOUGLAS, NATHANIEL | DEPUTY CHIEF, ENVIRONMENTAL ENFORCEMENT SECTION.
MERGEN, ANDREW | DEPUTY CHIEF, APPELLATE SECTION.
MITCHELL, STACEY H | CHIEF, ENVIRONMENTAL CRIMES SECTION.
RUSSELL, LISA L | CHIEF, NATURAL RESOURCES SECTION.
STEWART, HOWARD P | SENIOR LITIGATION COUNSEL.
TENENBAUM, ALAN S | SENIOR LITIGATION COUNSEL, ENVIRONMENTAL ENFORCEMENT.
VADEN, CHRISTOPHER S | DEPUTY CHIEF, ENVIRONMENTAL DEFENSE SECTION.
WARDZINSKI, KAREN M | CHIEF, LAW AND POLICY SECTION.
Executive Office for Immigration Review—EOIR
OSUNA, JUAN P | DIRECTOR.
KOCUR, ANA M | DEPUTY DIRECTOR.
O'LEARY, BRIAN M | CHIEF IMMIGRATION JUDGE.
MCGOINGS, MICHAEL | DEPUTY CHIEF IMMIGRATION JUDGE.
SCHMIDT, PAUL W | SENIOR IMMIGRATION JUDGE.
NEAL, DAVID | CHAIRMAN, BOARD OF IMMIGRATION APPEALS.
ADKINS-BLANCH, CHARLES K | VICE CHAIRMAN, BOARD OF IMMIGRATION APPEALS.
ROSENBLUM, JEFFREY A | GENERAL COUNSEL.
ESPENOZA, CECELIA MARIE | SENIOR ASSOCIATE GENERAL COUNSEL.
STUTMAN, ROBIN M | CHIEF ADMINISTRATIVE HEARING OFFICER.
JORDAN, WYEVETRA | ASSISTANT DIRECTOR FOR ADMINISTRATION.
COLE, PATRICIA A | ATTORNEY EXAMINER.
CREPPY, MICHAEL | ATTORNEY EXAMINER.
MANN, ANA | ATTORNEY EXAMINER.
GRANT, EDWARD R | ATTORNEY EXAMINER.
GREER, ANNE J | ATTORNEY EXAMINER.
GUENDELSBERGER, JOHN W | ATTORNEY EXAMINER.
HOLMES, DAVID B | ATTORNEY EXAMINER.
MALPHRUS, GARRY D | ATTORNEY EXAMINER.
MILLER, NEIL P | ATTORNEY EXAMINER.
MULLANE, HUGH G | ATTORNEY EXAMINER.
PAULEY, ROGER ANDREW | ATTORNEY EXAMINER.
WENDTLAND, LINDA S | ATTORNEY EXAMINER.
Executive Office for Organized Crime Drug Enforcement Task Forces—OCDETF
DINAN, JAMES H | EXECUTIVE DIRECTOR.
PADDEN, THOMAS W | DEPUTY DIRECTOR, OCDETF.
Executive Office for U.S. Attorneys—EOUSA
JARRETT, HOWARD MARSHALL | DIRECTOR.
WILKINSON, ROBERT M | PRINCIPAL DEPUTY AND CHIEF OF STAFF.
BELL, SUZANNE L | DEPUTY DIRECTOR.
GUGULIS, KATHERINE C | DEPUTY DIRECTOR ADMINISTRATION.
FLESHMAN, JAMES MARK | CHIEF INFORMATION OFFICER.
CHANDLER, CAMERON G | ASSOCIATE DIRECTOR, OFFICE OF LEGAL EDUCATION.
GIBSON, WAYNE | CHIEF OF PLANNING, EVALUATION AND PERFORMANCE.
MACKLIN, JAMES | GENERAL COUNSEL.
SMITH, DAVID L | COUNSEL FOR LEGAL INITIATIVES.
SUDDES, PAUL | PROJECT MANAGER—PALMETTO PROJECT.
VILLEGAS, DANIEL A | COUNSEL, LEGAL PROGAMS AND POLICY.
WISH, JUDITH | SPECIAL COUNSEL TO THE PRINCIPAL DEPUTY DIRECTOR.
WONG, NORMAN Y | DEPUTY DIRECTOR AND COUNSEL TO THE DIRECTOR.
FLINN, SHAWN | CHIEF HUMAN RESOURCES OFFICER.
Executive Office for U.S. Trustees—EOUST
WHITE III, CLIFFORD J | DIRECTOR.
CREWSON, PHILIP E | DEPUTY DIRECTOR MANAGEMENT.
ELLIOTT, RAMONA D | DEPUTY DIRECTOR GENERAL COUNSEL.
Justice Management Division—JMD
LOFTHUS, LEE J | ASSISTANT ATTORNEY GENERAL FOR ADMINISTRATION.
SANTANGELO, MARI BARR D | EPUTY ASSISTANT ATTORNEY GENERAL FOR HUMAN RESOURCES AND ADMINISTRATION (CHCO).
ALLEN, MICHAEL H | DEPUTY ASSISTANT ATTORNEY GENERAL FOR POLICY, MANAGEMENT, AND PLANNING, AND CHIEF OF STAFF.
LAURIA-SULLENS, JOLENE A | DEPUTY ASSISTANT ATTORNEY GENERAL/CONTROLLER.
MCCORMACK, LUKE | DEPUTY ASSISTANT ATTORNEY GENERAL FOR INFORMATION RESOURCES MANAGEMENT AND CHIEF INFORMATION OFFICER.
GARY, ARTHUR | GENERAL COUNSEL.
ALVAREZ, CHRISTOPHER C | DEPUTY DIRECTOR (AUDITING), FINANCE STAFF.
ATSATT, MARILYNN B | DEPUTY DIRECTOR, BUDGET STAFF, PROGRAMS AND PERFORMANCE.
BEASLEY, ROGER | DIRECTOR, OPERATIONS SERVICES STAFF.
CLAREY, KATHRYN L | SPECIAL ADVISOR FOR FINANCIAL MANAGEMENT INFORMATION TECHNOLOGY.
DEELEY, KEVIN | DEPUTY CHIEF INFORMATION OFFICER.
DEFALAISE, LOUIS | DIRECTOR, OFFICE OF ATTORNEY RECRUITMENT AND MANAGEMENT.
DUNLAP, JAMES L | DIRECTOR, SECURITY AND EMERGENCY PLANNING STAFF.
FELDT, DENNIS G | DIRECTOR, LIBRARY STAFF.
JOHNSTON, JAMES W | DIRECTOR, PROCUREMENT SERVICES STAFF.
MORGAN, MELINDA B | DIRECTOR, FINANCE STAFF.
MURRAY, JOHN W | DIRECTOR, ENTERPRISE SOLUTIONS STAFF.
CHANDLER, RICHARD | DIRECTOR, IT POLICY AND PLANNING STAFF.
COOK, TERENCE L | DIRECTOR, HUMAN RESOURCES.
NORRIS, J TREVOR | DEPUTY DIRECTOR, HUMAN RESOURCES.
DAUPHIN, DENNIS | DIRECTOR, DEBT COLLECTION MANAGEMENT STAFF.
OLDS, CANDACE A | DIRECTOR, ASSET FORFEITURE MANAGEMENT STAFF.
O'LEARY, KARIN | DIRECTOR, BUDGET STAFF.
SUTTON, JEFFREY W | DEPUTY DIRECTOR, BUDGET STAFF, OPERATIONS AND FUNDS CONTROL.
OLSON, ERIC R | DEPUTY, CHIEF INFORMATION OFFICER FOR E-GOVERNMENT SERVICES STAFF.
RODGERS, JANICE M | DIRECTOR, DEPARTMENTAL ETHICS OFFICE.
TOSCANO JR., RICHARD A | DIRECTOR, EQUAL EMPLOYMENT OPPORTUNITY STAFF.
SNELL, R SCOTT | DIRECTOR, FACILITIES AND ADMINISTRATIVE SERVICES STAFF.
National Security Division—NSD
CARLIN, JOHN | PRINCIPAL DEPUTY ASSISTANT ATTORNEY GENERAL AND CHIEF OF STAFF.
WIEGMANN, JOHN B | DEPUTY ASSISTANT ATTORNEY GENERAL, OFFICE OF LAW AND POLICY.
GAUHAR, TASHINA | DEPUTY ASSISTANT ATTORNEY GENERAL.
TOSCAS, GEORGE Z | DEPUTY ASSISTANT ATTORNEY GENERAL (COUNTERESPIONAGE-COUNTERTERRORISM).
BRADLEY, MARK A | DIRECTOR FOIA AND DECLASSIFICATION PROGRAM.
DUNNE, STEVEN M | CHIEF, APPELLATE UNIT.
EVANS, STUART | DEPUTY CHIEF, OPERATIONS SECTION.
KAYE, JANICE A | ETHICS OFFICER.
KEEGAN, MICHAEL | DEPUTY CHIEF, COUNTERTERRORISM SECTION.
KENNEDY, J. LIONEL | SPECIAL COUNSEL FOR NATIONAL SECURITY.
MULLANEY, MICHAEL J | CHIEF, COUNTERTERRORISM SECTION.
O'CONNOR, KEVIN | CHIEF, OVERSIGHT SECTION.
SANZ-REXACH, GABRIEL | CHIEF, OPERATIONS SECTION.
JENKINS, MARK | EXECUTIVE OFFICER.
HARDEE, CHRISTOPHER | CHIEF COUNSEL.
WALSH, JAMES D | SENIOR COUNSELOR TO THE ASSISTANT ATTORNEY GENERAL FOR NATIONAL SECURITY.
Office of Community Oriented Policing Services—COPS
EDERHEIMER, JOSHUA A | PRINCIPAL DEPUTY DIRECTOR.
Office of Information Policy—OIP
PUSTAY, MELANIE ANN | DIRECTOR.
Office of the Inspector General—OIG
SCHNEDAR, CYNTHIA A | DEPUTY INSPECTOR GENERAL.
BEAUDET, RAYMOND J | ASSISTANT INSPECTOR GENERAL FOR AUDIT.
BLIER, WILLIAM M | GENERAL COUNSEL.
DORSETT, GEORGE L | ASSISTANT INSPECTOR GENERAL FOR INVESTIGATIONS.
FORTINE OCHOA, CAROL | ASSISTANT INSPECTOR GENERAL FOR OVERSIGHT AND REVIEW.
MARSKE, CARYN A | DEPUTY ASSISTANT INSPECTOR GENERAL FOR AUDIT.
PETERS, GREGORY T | ASSISTANT INSPECTOR GENERAL FOR MANAGEMENT AND PLANNING.
LERNER, JAY | SENIOR COUNSEL TO THE INSPECTOR GENERAL.
STORCH, ROBERT | COUNSELOR TO THE INSPECTOR GENERAL.
Office of Justice Programs—OJP
LEARY, MARY LOU | PRINCIPAL DEPUTY ASSISTANT ATTORNEY GENERAL.
MCGARRY, BETH | CHIEF OF STAFF AND SENIOR COUNSEL.
BURCH II, JAMES H | DEPUTY ASSISTANT ATTORNEY GENERAL OPERATIONS MANAGEMENT.
AYERS, NANCY LYNN | DEPUTY ADMINISTRATOR FOR POLICY, OJJDP.
FROST, JOYE | DEPUTY DIRECTOR, OFFICE FOR VICTIMS OF CRIME.
GARRY, EILEEN M | DEPUTY DIRECTOR FOR PLANNING, BUREAU OF JUSTICE ASSISTANCE.
TRAUTMAN, TRACEY | DEPUTY DIRECTOR FOR PROGRAMS, BUREAU OF JUSTICE ASSISTANCE.
HANES, MELODEE | PRINCIPAL DEPUTY ADMINISTRATOR, OFFICE OF JUVENILE JUSTICE AND DELINQUENCY PREVENTION.
FEUCHT, THOMAS E | EXECUTIVE SCIENCE ADVISOR, NATIONAL INSTITUTE OF JUSTICE.
HENNEBERG, MAUREEN A | DIRECTOR, OFFICE OF AUDIT, ASSESSMENT, AND MANAGEMENT.
IWANOW, WALTER | CHIEF INFORMATION OFFICER.
MADAN, RAFAEL A | GENERAL COUNSEL.
MAHONEY, KRISTEN | DEPUTY DIRECTOR, POLICY MANAGEMENT, BUREAU OF JUSTICE ASSISTANCE.
MERKLE, PHILLIP | DIRECTOR, OFFICE OF ADMINISTRATION.
ROBERTS, MARILYN M | DEPUTY ADMINISTRATOR FOR PROGRAMS, OJJDP.
SABOL, WILLIAM | DEPUTY DIRECTOR, BUREAU OF JUSTICE STATISTICS.
RIDGEWAY, GREG | DEPUTY DIRECTOR, NATIONAL INSTITUTE OF JUSTICE, OFFICE OF SCIENCE AND TECHNOLOGY.
BENDA, BONNIE LEIGH | CHIEF FINANCIAL OFFICER.
MARTIN, RALPH | DEPUTY CHIEF FINANCIAL OFFICER.
BECK, ALLEN J | SENIOR STATISTICIAN.
Office of Legal Counsel—OLC
KRASS, CAROLINE DIANE | PRINCIPAL DEPUTY ASSISTANT ATTORNEY GENERAL.
KOFFSKY, DANIEL L | DEPUTY ASSISTANT ATTORNEY GENERAL.
BIES, JOHN | DEPUTY ASSISTANT ATTORNEY GENERAL.
MIZER, BENJAMIN | DEPUTY ASSISTANT ATTORNEY GENERAL.
KRUGER, LEONDRA | DEPUTY ASSISTANT ATTORNEY GENERAL.
COLBORN, PAUL P | SPECIAL COUNSEL.
HART, ROSEMARY A | SPECIAL COUNSEL.
SINGDAHLSEN, JEFFREY P | SENIOR COUNSEL.
Office of Legal Policy—OLP
TYRANGIEL, ELANA | PRINCIPAL DEPUTY ASSISTANT ATTORNEY GENERAL.
JONES, KEVIN ROBERT | DEPUTY ASSISTANT ATTORNEY GENERAL.
THIEMANN, ROBYN L | DEPUTY ASSISTANT ATTORNEY GENERAL.
ZUBRENSKY, MICHAEL | DEPUTY ASSISTANT ATTORNEY GENERAL.
KARP, DAVID J | SENIOR COUNSEL.
JACOBS, JOANNA | SENIOR COUNSEL FOR ALTERNATIVE DISPUTE RESOLUTION.
Office of Legislative Affairs—OLA
KADZIK, PETER | DEPUTY ASSISTANT ATTORNEY GENERAL.
AGRAST, MARK D | DEPUTY ASSISTANT ATTORNEY GENERAL.
WILLIAMS, ELLIOT | DEPUTY ASSISTANT ATTORNEY GENERAL.
BURTON, M | FAITH SPECIAL COUNSEL.
Office of Professional Responsibility—OPR
ASHTON, ROBIN | COUNSEL FOR PROFESSIONAL RESPONSIBILITY.
WEINSHEIMER, G. BRADLEY | DEPUTY COUNSEL ON PROFESSIONAL RESPONSIBILITY.
BIRNEY, WILLIAM | SENIOR ASSOCIATE COUNSEL.
Office of Public Affairs—PAO
FALLON, BRIAN | DIRECTOR.
Office of the Pardon Attorney—OPA
RODGERS, RONALD L | PARDON ATTORNEY.
Office of Tribal Justice—OTJ
TOULOU, TRACY S | DIRECTOR, OFFICE OF TRIBAL JUSTICE.
Office on Violence Against Women—OVW
HANSON, BEATRICE | PRINCIPAL DEPUTY DIRECTOR.
Professional Responsibility Advisory Office—PRAO
DUNSTON, JERRI U | DIRECTOR.
Tax Division—TAX
HUBBERT, DAVID A | DEPUTY ASSISTANT ATTORNEY GENERAL.
CIMINO, RONALD ALLEN | DEPUTY ASSISTANT ATTORNEY GENERAL.
ASHFORD, TAMARA | DEPUTY ASSISTANT ATTORNEY GENERAL.
BRUFFY, ROBERT | EXECUTIVE OFFICER.
BALLWEG, MITCHELL J | CHIEF, CRIMINAL ENFORCEMENT SECTION, WESTERN REGION.
CIHLAR, FRANK P | CHIEF, CRIMINAL APPEALS AND TAX ENFORCEMENT POLICY SECTION.
DONOHUE, DENNIS M | SENIOR LITIGATION COUNSEL.
PINCUS, DAVID | CHIEF, COURT OF FEDERAL CLAIMS SECTION.
HAGLEY, JUDITH | SENIOR TRIAL ATTORNEY.
HARTT III, GROVER | SENIOR TRIAL ATTORNEY.
HEALD, SETH G | CHIEF, CIVIL TRIAL SECTION, CENTRAL REGION.
MELAND, DEBORAH | CHIEF, CIVIL TRIAL SECTION, EASTERN REGION.
HYTKEN, LOUISE P | CHIEF, CIVIL TRIAL SECTION, SOUTHWESTERN REGION.
JOHNSON, CORY | SENIOR TRIAL ATTORNEY.
KEARNS, MICHAEL J | CHIEF, CIVIL TRIAL SECTION, SOUTHERN REGION.
KOVACEV, ROBERT | SENIOR TRIAL ATTORNEY.
LINDQUIST III, JOHN A | SENIOR TRIAL ATTORNEY.
REID, ANN C | CHIEF, OFFICE OF REVIEW.
MULLARKEY, DANIEL P | CHIEF, CIVIL TRIAL SECTION, NORTHERN REGION.
PAGUNI, ROSEMARY E | CHIEF, CRIMINAL ENFORCEMENT SECTION, NORTHERN REGION.
ROTHENBERG, GILBERT S | CHIEF, APPELLATE SECTION.
SALAD, BRUCE M | CHIEF, CRIMINAL ENFORCEMENT SECTION, SOUTHERN REGION.
SAWYER, THOMAS | SENIOR TRIAL ATTORNEY.
SERGI, JOSEPH A | SENIOR TRIAL ATTORNEY.
SHATZ, EILEEN M | SPECIAL LITIGATION COUNSEL.
SMITH, COREY J | SENIOR TRIAL ATTORNEY.
STEHLIK, NOREENE C | SENIOR TRIAL ATTORNEY.
SULLIVAN, JOHN | SENIOR TRIAL ATTORNEY.
IHLO, JENNIFER | SENIOR TRIAL ATTORNEY.
DALY, MARK | SENIOR TRIAL ATTORNEY.
WARD, RICHARD | CHIEF, CIVIL TRIAL SECTION WESTERN REGION.
U.S. Marshals Service—USMS
AUERBACH, GERALD | GENERAL COUNSEL.
HARLOW, DAVID | ASSOCIATE DIRECTOR, OPERATIONS.
BROWN, SHANNON B | ASSISTANT DIRECTOR, INFORMATION TECHNOLOGY.
FALLON, WILLIAM T | ASSISTANT DIRECTOR, TRAINING.
SNELSON, WILLIAM D | ASSISTANT DIRECTOR, INVESTIGATIVE OPERATIONS.
CAULK, CARL | ASSISTANT DIRECTOR FOR JUDICIAL SECURITY.
JONES, SYLVESTER E | ASSISTANT DIRECTOR, WITNESS SECURITY.
PROUT, MICHAEL J | ASSISTANT DIRECTOR, OFFICE OF INSPECTION.
MORALES, EBEN | ASSISTANT DIRECTOR, PRISONER OPERATIONS.
LEE, ALDEAN L | ASSISTANT DIRECTOR, MANAGEMENT SUPPORT.
O'BRIEN, HOLLEY | ASSISTANT DIRECTOR, FINANCIAL SERVICES.
MOHAN, KATHERINE | ASSISTANT DIRECTOR, HUMAN RESOURCES.
O'BRIEN, CAROL | DEPUTY ASSISTANT DIRECTOR, ACQUISITION AND PROCUREMENT.
DOLAN, EDWARD | SPECIAL ASSISTANT FOR FINANCIAL SYSTEMS.
MUSEL, DAVID F | DIRECTOR, JPATS.
VARGO, BRUCE E | SENIOR ADVISOR.

[FR Doc. 2013-22392 Filed 9-13-13; 8:45 am]

BILLING CODE 4410-NW-P